DEPARTMENT OF THE TREASURY

Submission for OMB Review; Comment Request

October 25, 2004.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before December 2, 2004, to be assured of consideration.

Internal Revenue Service (IRS)

OMB Number: 1545-1904.

Revenue Procedure Number: Revenue Procedure 2004-56.

Type of Review: Extension.

Title: Model 457 Plan Provisions.

Description: This revenue procedure contains model amendments to be used by section 457(b) plans (deferred compensation plans) of state or local government.

Respondents: Not-for-profit institutions.

Estimated Number of Respondents/Recordkeepers: 10,260.

Estimated Burden Hours Respondent/Recordkeeper: 4 hours.

Frequency of response: On occasion.

Estimated Total Reporting/Recordkeeping Burden: 41,040 hours.

Clearance Officer: R. Joseph Durbala, (202) 622-3634, Internal Revenue Service, Room 6516, 1111 Constitution Avenue, NW., Washington, DC 20224.

OMB Reviewer: Joseph F. Lackey, Jr., (202) 395-7316, Office of Management and Budget, Room 10235, New Executive Office Building, Washington, DC 20503.

Lois K. Holland,
Treasury PRA Clearance Officer.

[FR Doc. 04-24362 Filed 11-1-04; 8:45 am]

BILLING CODE 4830-01-P